DEPARTMENT OF THE INTERIOR

Bureau of Indian Affairs

Notice of Intent To Prepare an Environmental Impact Statement for the Proposed Mohawk Mountain Resort and Casino, Sullivan County, NY

AGENCY: Bureau of Indian Affairs, Interior.

ACTION: Notice.

SUMMARY: This notice advises the public that the Bureau of Indian Affairs, with the cooperation of the St. Regis Band of Mohawk Indians, intends to gather the information necessary for preparing an Environmental Impact Statement (EIS) for the proposed Mohawk Mountain Resort and Casino, Town of Thompson, Sullivan County, New York. The purpose of the proposed action is to help meet the economic development needs of the tribe. This notice also announces a public scoping meeting to identify potential issues and content for inclusion in the EIS.

DATES: Written comments on the scope and implementation of this proposal must arrive by October 15, 2003. The public scoping meeting will be held on October 8, 2003, at 7 p.m.

The draft EIS is expected to be completed by November 1, 2003, and to be available for public review and comment for a period of 45 days from the date the Notice of Availability of the draft EIS is published in the Federal Register. The final EIS is expected to be completed by January 15, 2004, and to be available to the public for a period of 30 days from the date the Notice of Availability of the final EIS is published in the Federal Register. The Record of Decision on the proposed action will be issued on or about March 1, 2004.

ADDRESSES: You may mail, hand carry or telefax written comments to Mr. Franklin Keel, Regional Director, Eastern Regional Office, Bureau of Indian Affairs, 711 Stewarts Ferry Pike, Nashville, Tennessee 37214, Telefax (615) 467-1701.

The public scoping meeting will be held at the Sullivan County Government Center, Legislative Meeting Room, 2nd Floor, 100 North Street, Monticello, New York 12701.

FOR FURTHER INFORMATION CONTACT: Jim Kardatzke, (615) 467-1675.

SUPPLEMENTARY INFORMATION: The Bureau of Indian Affairs (BIA) proposes to take 66 acres of land into trust on behalf of the St. Regis Band of Mohawk Indians (Tribe), on which the Tribe, through a development agreement with Park Place Entertainment Corporation, proposes to build a resort and casino complex to be called the Mohawk Mountain Resort and Casino. The property is located along the east side of Anawana Lake Road (C.R. 103) in the Town of Thompson, Sullivan County, New York, approximately 3 miles north of the Village of Monticello. The project design contemplates a 750 room hotel and 450,000 square foot casino and support area, a 2,000 seat theater and several restaurants spread across the 66 acres to be taken into trust, with a 5,040 stall parking garage on an adjacent 141 acre parcel.

The Tribe prepared and submitted to the BIA an Environmental Assessment (EA) on the proposed action in December 2002. Upon consideration of the EA, and of project changes made after the EA was prepared, the BIA found that an EIS would be required for the proposed action. The EA will, however, serve as a part of the scoping process for the EIS. In addition, the project is undergoing review pursuant to the New York State Environmental Quality Review Act, which has included public hearings held by the Town of Thompson to receive public comments on the EA. The comments from these hearings will also serve as a part of the scoping process for the EIS.

Issues identified to date to be addressed in the EIS include, but are not limited to the following:

• Traffic—concerns that traffic jams may result from the project and that emergency services may be compromised.

• Noise—concerns that sounds from the resort and casino will travel offsite and adversely affect nearby residences, wildlife and/or livestock.

• Water Supply/Water Quality—concerns that the project will have an adequate water supply and will not adversely affect water quality in Anawana Lake or its tributaries.

• Wetlands—the minimization and/or avoidance of wetland impacts.

Wildlife—concerns regarding the project's impact on fish and wildlife and their habitats, including threatened and endangered species.

• Sewage Disposal—concerns regarding the handling of sewage effluent.

• Land Use/Community Character—concerns regarding how the project might affect the character of surrounding lands and communities.

• Socio-economics—concerns regarding how the project might affect local business and property values.

• Air Quality “ concerns regarding the additive air impacts of project-induced traffic.

• Cumulative Effects “ concerns regarding the cumulative environmental impacts of the project when considered together with other reasonably foreseeable development projects in the region.

• Alternatives to the preferred alternative.

The range of issues and alternatives addressed in the EIS may be further expanded based on comments received in response to this notice, or to the scoping meeting announced in this notice.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: October 1, 2003.
Aurene M. Martin,
Principal Deputy Assistant Secretary—Indian Affairs.

[FR Doc. 03-25394 Filed 10-2-03; 2:05 pm]

BILLING CODE 4310-W7-P